FEDERAL COMMUNICATIONS COMMISSION

Notice of Public Information Collection(s) being Reviewed by the Federal Communications Commission, Comments Requested

DATE: April 4, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 13, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-XXXX.

Title: Section 74.786, Digital Channel Assignments; Section 74.787, Digital Licensing; Section 74.790, Permissible Service of Digital TV Translator and Low Power TV (LPTV) Stations; Section 74.794, Digital Emissions.

Form Number: Not applicable.

Type of Review: New collection.

Respondents: Business or other for-profit entities; not-for-profit institutions; State, local or tribal government.

Number of Respondents: 9,000.

Estimated Time per Response: 51.5 hours.

Frequency of Response: One-time reporting requirement.

Total Annual Burden: 57,300 hours.

Total Annual Cost: $98,916,200.

Privacy Impact Assessment: No impact(s).

Needs and Uses: The Commission adopted rules in a Report and Order (R&O) in MB Docket No. 03-185, FCC 04-220, adopted September 9, 2004, and released September 20, 2004. The Commission is establishing a new service, the new rules contain over 20 new one-time burdens. These burdens include the cost of equipment necessary to offer digital service. The Commission also imposes Paperwork Reduction Act (PRA) burdens aimed at minimizing the opportunity for interference and continuing to offer the public the highest quality viewing services possible during the transition to digital television. All of the burdens are one-time burdens and are the minimum needed to ensure a smooth, rapid transition to the myriad of opportunities offered by digital television technology.

Section 74.786 requires an applicant for a new low power television translator digital station or for changes in the facilitates of an authorized digital station shall endeavor to select a channel on which its operation is not likely to cause interference. The applications must be specific with regard to the channel requested. Only one channel will be assigned to each station. Stations proposed use of such channels shall notify all potentially affected 700 MHz wireless licenses not later than 30 days prior to the submission of their application (FCC Form 346).

Section 74.787 states applications for digital conversion channels may be filed at any time. Such applications shall be filed on FCC Form 346 and will be treated as a minor change application. Also, this rule section covers applications for companion digital channel. A public notice will specify a time period or “window” for filing applications for companion digital channels. During this window, only existing low power television or television translator stations or licensees or permittees of Class A TV stations may submit applications for companion digital channels. Construction permit applications for new stations, major changes to existing station in the low power television service are also covered under this rule section. A public notice will specify the date upon which interested parties may begin to file applications for new stations and major facilities changes to existing station in the low power television service. Such applications shall be accepted on a first-come, first served basis, and shall be filed on FCC Form 346. Displacement applications are also covered under this rule section and are filed when a digital low power television or television translator station which is causing or receiving interference or is predicted to cause or receive interference to or from an authorized TV broadcast station. Digital TV (DTV) station or allotment or other protected station service, may at any time file a displacement relief application for change in channel, together with technical station's protected service area, provided the proposed transmitter site is not located more than 30 miles from the reference coordinates of the existing station's community license. This can be done on FCC Form 346.

Section 74.790 states that DTV translator stations provide a means whereby the signals of DTV broadcast stations may be retransmitted to areas in which direct reception of such DTV stations is unsatisfactory due to distance or intervening terrain barriers.

Section 74.794 requires that an applicant for a digital Low Power TV (LPTV) or TV translator station construction permit shall specify that the station will be constructed to confine out-of-channel emissions within one of the following masks: simple or stringent.

Federal Communications Commission.
Marlene H. Dortch,
Secretary.

[FR Doc. 05-7061 Filed 4-12-05; 8:45 am]

BILLING CODE 6712-10-M